DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
St. Clair County, Alabama, and Incorporated Areas
Docket Nos.: FEMA-B-1142 and FEMA-B-1193
Big Black Creek | Approximately 1.9 miles downstream of Whites Chapel Parkway | +581 | City of Trussville, Town of Argo, Town of Margaret, Town of Moody, Unincorporated Areas of St. Clair County.
| Approximately 3.1 miles upstream of County Road 6 | +648
Coosa River | At the Fishing Creek confluence | +477 | Town of Ragland, Town of Riverside.
| Approximately 5.5 miles downstream of Neely Henry Dam | +486
Dye Creek | At Golf Course Road | +480 | City of Pell City, Unincorporated Areas of St. Clair County.
| Approximately 0.8 mile upstream of 16th Street | +591
Kelly Creek | Approximately 0.4 mile upstream of the Shelby County boundary | +466 | Town of Moody, Unincorporated Areas of St. Clair County.
| Approximately 0.6 mile upstream of State Route 174 | +764
Kerr Branch | Approximately 0.5 mile downstream of Kelly Creek Road | +685 | Town of Moody.
| Approximately 0.3 mile upstream of Kelly Creek Road | +695
Little Black Creek | Approximately 110 feet downstream of Acmor Road | +594 | Town of Margaret, Town of Moody, Unincorporated Areas of St. Clair County.
| Approximately 2.5 miles upstream of the railroad | +860
Middle Black Creek | Approximately 1.0 mile downstream of the railroad bridge | +601 | Town of Argo, Town of Margaret, Town of Odenville, Unincorporated Areas of St. Clair County.
| Approximately 3.8 miles upstream of County Road 6 | +727
* National Geodetic Vertical Datum.
+ North American Vertical Datum.
# Depth in feet above ground.
‸ Mean Sea Level, rounded to the nearest 0.1 meter.
ADDRESSES
City of Pell City
Maps are available for inspection at 1905 1st Avenue North, Pell City, AL 35125.
City of Trussville
Maps are available for inspection at 131 Main Street, Trussville, AL 35173.
Town of Argo
Maps are available for inspection at 8885 Gadsden Highway, Argo, AL 35173.
Town of Margaret
Maps are available for inspection at 125 School Street, Margaret, AL 35112.
Town of Moody
Maps are available for inspection at 670 Park Avenue, Moody, AL 35004.
Town of Odenville
Maps are available for inspection at 183 Alabama Street, Odenville, AL 35120.
Town of Ragland
Maps are available for inspection at 220 Fredia Street, Suite 102, Ragland, AL 35131.
Town of Riverside
Maps are available for inspection at 379 Depot Street, Riverside, AL 35135.
Unincorporated Areas of St. Clair County
Maps are available for inspection at 165 5th Avenue, Suite 100, Ashville, AL 35953.
Desha County, Arkansas, and Incorporated Areas
Docket No.: FEMA-B-1087
Canal No. 18 | Approximately 1.0 mile downstream of the Missouri Pacific Railroad | +137 | Unincorporated Areas of Desha County.
| Approximately 1,300 feet upstream of State Highway 1 | +142
Canal No. 19 | Approximately 0.5 mile downstream of U.S. Route 165 | +157 | Unincorporated Areas of Desha County.
| Approximately 1,300 feet upstream of U.S. Route 165 | +157
Ditch No. 6 | Just upstream of Burnett Street | +164 | Unincorporated Areas of Desha County.
| Just upstream of State Highway 159 | +164
Little Bayou Macon | Approximately 556 feet upstream from the confluence with Canal No. 18 | +137 | Unincorporated Areas of Desha County.
| Approximately 2.0 miles upstream of State Highway 1 | +141
| Just upstream of County Road 324 | +141
| Approximately 0.5 mile upstream of State Highway 4 | +142
* National Geodetic Vertical Datum.
+ North American Vertical Datum.
# Depth in feet above ground.
‸ Mean Sea Level, rounded to the nearest 0.1 meter.
ADDRESSES
Unincorporated Areas of Desha County
Maps are available for inspection at 608 Robert Moore Avenue, Arkansas City, AR 71630.
Saline County, Arkansas, and Incorporated Areas
Docket No.: FEMA-B-1204
Upper Depot Creek | Approximately 1,000 feet downstream of Sidell Road | +349 | Unincorporated Areas of Saline County.
| At the upstream side of Sidell Road | +356
* National Geodetic Vertical Datum.
+ North American Vertical Datum.
# Depth in feet above ground.
‸ Mean Sea Level, rounded to the nearest 0.1 meter.
ADDRESSES
Unincorporated Areas of Saline County
Maps are available for inspection at 200 North Main Street, Room 117, Benton, AR 72015.
East Baton Rouge Parish, Louisiana, and Incorporated Areas
Docket No.: FEMA-B-1184
North Branch Wards Creek | Approximately 0.46 mile upstream of I-10 North | +30 | City of Baton Rouge, Unincorporated Areas of East Baton Rouge Parish.
| Approximately 1,600 feet upstream of Albert Drive | +52
Redwood Creek | Approximately 900 feet downstream of Plank Road | +92 | City of Zachary, Unincorporated Areas of East Baton Rouge Parish.
| Approximately 500 feet upstream of Port-Hudson Pride Road | +101
Sheet flow between McCarroll Drive and North Jefferson Place Circle | At North Jefferson Place Circle | #1 | City of Baton Rouge, Unincorporated Areas of East Baton Rouge Parish.
| At the intersection of Richards Drive and McCarroll Drive | #1
Shoe Creek | Approximately 0.58 mile downstream of Hooper Road | +59 | City of Central.
| Approximately 600 feet upstream of Gurney Road | +67
Shoe Creek Tributary 1 | Approximately 1,200 feet downstream of Hooper Road | +60 | City of Central.
| At the downstream side of Hooper Road | +60
Shoe Creek Tributary 1A | At the Shoe Creek Tributary 1 confluence | +60 | City of Central.
| Approximately 1,500 feet upstream of the Shoe Creek Tributary 1 confluence | +60
Upper White Bayou | Approximately 0.66 mile downstream of Zachary-Slaughter Highway | +94 | City of Zachary, Unincorporated Areas of East Baton Rouge Parish.
| Approximately 450 feet downstream of Brian Road | +111
* National Geodetic Vertical Datum.
+ North American Vertical Datum.
# Depth in feet above ground.
‸ Mean Sea Level, rounded to the nearest 0.1 meter.
ADDRESSES
City of Baton Rouge
Maps are available for inspection at the Department of Public Works Flood Office, 100 Saint Ferdinand Street, Baton Rouge, LA 70802.
City of Central
Maps are available for inspection at the Central Municipal Service Center, 22801 Greenwell Springs Road, Suite 3, Greenwell Springs, LA 70739.
City of Zachary
Maps are available for inspection at the Annex Building, 4650 Main Street, Zachary, LA 70791.
Unincorporated Areas of East Baton Rouge Parish
Maps are available for inspection at the City of Baton Rouge Department of Public Works Flood Office, 100 Saint Ferdinand Street, Baton Rouge, LA 70802.
Madison Parish, Louisiana, and Incorporated Areas
Docket Nos.: FEMA-B-1109 and FEMA-B-1196
Brushy Bayou | At the downstream side of I-20 | +80 | City of Tallulah, Village of Richmond.
| At the upstream side of I-20 | +81
Bayou Macon | Just upstream of Atkins Road | +75 | Unincorporated Areas of Madison Parish.
| Just downstream of Bryant Road | +79
Cypress Bayou | Approximately 0.7 mile downstream of I-20 | +81 | Village of Delta, Village of Mound.
| Approximately 428 feet upstream of U.S. Route 80 | +85
Ditch L-7CC-1 | Approximately 682 feet upstream of the Lower Roundaway Bayou confluence | +77 | City of Tallulah, Unincorporated Areas of Madison Parish, Village of Richmond.
| At the downstream side of State Route 601 | +83
Ditch L-7CC-2 | Approximately 440 feet downstream of I-20 | +78 | Unincorporated Areas of Madison Parish, Village of Richmond.
| At the downstream side of Burnside Road | +78
Mississippi River | Approximately 0.9 mile downstream of I-20 | +102 | Village of Delta.
| Approximately 2.0 miles upstream of I-20 | +103
* National Geodetic Vertical Datum.
+ North American Vertical Datum.
# Depth in feet above ground.
‸ Mean Sea Level, rounded to the nearest 0.1 meter.
ADDRESSES
City of Tallulah
Maps are available for inspection at 204 North Cedar Street, Tallulah, LA 71282.
Unincorporated Areas of Madison Parish
Maps are available for inspection at the Madison Parish Police Jury, 100 North Cedar Street, Tallulah, LA 71282.
Village of Delta
Maps are available for inspection at 200 1st Street, Delta, LA 71233.
Village of Mound
Maps are available for inspection at the Madison Parish Police Jury, 100 North Cedar Street, Tallulah, LA 71282.
Village of Richmond
Maps are available for inspection at 598 Wood Street, Richmond, LA 71282.
Ray County, Missouri, and Incorporated Areas
Docket Nos.: FEMA-B-1087 and FEMA-B-1184
Crooked River | Approximately 2,700 feet downstream of State Highway 10 | +692 | Unincorporated Areas of Ray County.
| Approximately 10,500 feet upstream of State Highway 10 | +697
Fire Branch Crooked River | Approximately 1,125 feet upstream of West 196th Street | +818 | Unincorporated Areas of Ray County.
| Approximately 2,450 feet upstream of West 196th Street | +828
Fishing River | Approximately 100 feet downstream of West 60th Street | +713 | City of Orrick, Unincorporated Areas of Ray County.
| Approximately 3,500 feet upstream of West 88th Street | +721
Keeney Creek | Approximately 2,350 feet upstream of the confluence with the Fishing River | +712 | City of Orrick, Unincorporated Areas of Ray County.
| Approximately 3,000 feet upstream of West 73rd Street | +740
Missouri River | Approximately 700 feet downstream of the Lafayette County boundary | +689 | City of Camden, City of Fleming, City of Hardin, City of Henrietta, Unincorporated Areas of Ray County.
| At the Clay County boundary | +717
Tributary B | Approximately 7,500 feet upstream of Bollinger Road | +786 | Unincorporated Areas of Ray County.
| Approximately 10,000 feet downstream of State Highway V | +789
West Fork Crooked River | Approximately 1,000 feet downstream of State Highway 13 | +729 | City of Richmond.
| Approximately 400 feet upstream of State Highway 13 | +733
* National Geodetic Vertical Datum.
+ North American Vertical Datum.
# Depth in feet above ground.
‸ Mean Sea Level, rounded to the nearest 0.1 meter.
ADDRESSES
City of Camden
Maps are available for inspection at 105 Walnut Street, Camden, MO 64017.
City of Fleming
Maps are available for inspection at the Ray County Courthouse, 100 West Main Street, Richmond, MO 64085.
City of Hardin
Maps are available for inspection at 100 East Main Street, Hardin, MO 64035.
City of Henrietta
Maps are available for inspection at 406 Main Street, Henrietta, MO 64036.
City of Orrick
Maps are available for inspection at 207 West South Front Street, Orrick, MO 64077.
City of Richmond
Maps are available for inspection at 205 Summit Street, Richmond, MO 64085.
Unincorporated Areas of Ray County
Maps are available for inspection at the Ray County Courthouse 100 West Main Street, Richmond, MO 64085.
Delaware County, New York (All Jurisdictions)
Docket No.: FEMA-B-1076
Bear Brook | From the confluence with Sands Creek | +938 | Town of Hancock.
| To approximately 150 feet upstream of County Route 67 | +946
Beaver Kill | From the confluence with East Branch Delaware River Reach 1 | +1008 | Town of Colchester, Town of Hancock.
| To approximately 0.9 mile upstream of State Route 17 at the county boundary | +1257
Charlotte Creek | From the confluence with the Susquehanna River | +1102 | Town of Davenport, Town of Harpersfield.
| To approximately 1.1 miles upstream of Johnson Road | +1327
Delaware River | From approximately 5.7 miles downstream of Lordville Road | +841 | Town of Hancock, Village of Hancock.
| To the confluence of East Branch Delaware River and West Branch Delaware River | +904
East Branch Delaware River Reach 1 | From the confluence with the Delaware River and East Branch Delaware River Reach 1 | +904 | Town of Colchester, Town of Hancock, Village of Hancock.
| To approximately 1,550 feet upstream of State Route 30 | +1107
East Branch Delaware River Reach 2 | From approximately 0.6 mile downstream of Fair Street | +1308 | Town of Middletown, Village of Margaretville.
| To approximately 0.5 mile downstream of Fair Street | +1308
East Brook | From the confluence with West Branch Delaware River | +1212 | Town of Walton, Village of Walton.
| To approximately 0.9 mile upstream of Brook Dam Road | +1288
Little Delaware River | From the confluence with West Branch Delaware River | +1346 | Town of Delhi.
| To approximately 220 feet downstream of Arbor Hill Road | +1346
Ouleout Creek | From approximately 1.56 miles upstream of East Sidney Lake Dam | +1198 | Town of Franklin.
| To approximately 1.6 miles upstream of East Sidney Lake Dam | +1198
Sands Creek | From the confluence with West Branch Delaware River | +913 | Town of Hancock, Village of Hancock.
| To the confluence with Bear Brook | +938
Steele Brook | From the confluence with West Branch Delaware River | +1358 | Village of Delhi.
| To approximately 630 feet downstream of Elm Street | +1358
Susquehanna River | From approximately 0.7 mile downstream of State Route 8 | +987 | Town of Davenport, Town of Sidney, Village of Sidney.
| To approximately 0.6 mile downstream of County Highway 47 | +1102
Third Brook | From the confluence with West Brook | +1208 | Town of Walton, Village of Walton.
| To approximately 1.1 miles upstream of Ogden Street | +1391
Vly Creek | Approximately 2,625 feet downstream of County Route 37 | +1558 | Village of Fleischmanns.
| To approximately 2,550 feet downstream of County Route 37 | +1559
West Branch Delaware River | From the confluence with the Delaware River | +904 | Town of Delhi, Town of Deposit, Town of Hamden, Town of Hancock, Town of Kortright, Town of Tompkins, Town of Walton, Village of Delhi, Village of Hancock, Village of Walton.
| To approximately 1.1 miles upstream of Hoag Cross Road | +1410
West Brook | From the confluence with West Branch Delaware River | +1208 | Town of Walton, Village of Walton.
| To approximately 1.4 miles upstream of Walton-Sidney Road | +1368
* National Geodetic Vertical Datum.
+ North American Vertical Datum.
# Depth in feet above ground.
‸ Mean Sea Level, rounded to the nearest 0.1 meter.
ADDRESSES
Town of Colchester
Maps are available for inspection at the Colchester Town Building Department, 72 Tannery Road, Downsville, NY 13755.
Town of Davenport
Maps are available for inspection at the Davenport Town Hall, 11790 State Highway 23, Davenport Center, NY 13751.
Town of Delhi
Maps are available for inspection at the Delhi Town Building Code Office, 3 Elm Street, Delhi, NY 13753.
Town of Deposit
Maps are available for inspection at the Town Hall, 3 Elm Street, Deposit, NY 13754.
Town of Franklin
Maps are available for inspection at the Town Hall, 554 Main Street, Franklin, NY 13775.
Town of Hamden
Maps are available for inspection at the Town Hall, Route 10 and Covert Hollow Road, Hamden, NY 13782.
Town of Hancock
Maps are available for inspection at the Hancock Town Hall, 661 West Main Street, Hancock, NY 13783.
Town of Harpersfield
Maps are available for inspection at the Town Hall, 25399 State Highway 23, Harpersfield, NY 13786.
Town of Kortright
Maps are available for inspection at the Kortright Town Hall, 51702 State Highway 10, Bloomville, NY 13739.
Town of Middletown
Maps are available for inspection at the Middletown Town Hall, 42339 State Highway 28, Margaretville, NY 12455.
Town of Sidney
Maps are available for inspection at the Sidney Town Civic Center, 21 Liberty Street, Suite 1, Sidney, NY 13838.
Town of Tompkins
Maps are available for inspection at the Tompkins Town Hall, 148 Bridge Street, Trout Creek, NY 13847.
Town of Walton
Maps are available for inspection at the Walton Town Hall, 129 North Street, Walton, NY 13856.
Village of Delhi
Maps are available for inspection at the Delhi Village Building Enforcement Office, 9 Court Street, Delhi, NY 13753.
Village of Fleischmanns
Maps are available for inspection at the Village Hall, 1017 Main Street, Fleischmanns, NY 12430.
Village of Hancock
Maps are available for inspection at the Hancock Village Hall, 85 East Front Street, Hancock, NY 13783.
Village of Margaretville
Maps are available for inspection at the Village Hall, 773 Main Street, Margaretville, NY 12445.
Village of Sidney
Maps are available for inspection at the Sidney Village Hall, 21 Liberty Street, Sidney, NY 13838.
Village of Walton
Maps are available for inspection at the Walton Village Hall, 21 North Street, Walton, NY 13856.
Garfield County, Oklahoma, and Incorporated Areas
Docket No.: FEMA-B-1029
Boggy Creek Tributary (West Branch) | Approximately 481 feet upstream of the confluence of Boggy Creek Tributary (West Branch) and Boggy Creek Tributary | +1298 | City of Enid.
| Approximately 885 feet upstream of the confluence of Boggy Creek Tributary (West Branch) and Boggy Creek Tributary | +1301
Tributary A to Boggy Creek Tributary | Approximately 663 feet upstream of the confluence of Tributary A to Boggy Creek Tributary and Boggy Creek Tributary | +1309 | City of Enid.
| Approximately 1,168 feet upstream of the confluence of Tributary A to Boggy Creek Tributary and Boggy Creek Tributary | +1313
* National Geodetic Vertical Datum.
+ North American Vertical Datum.
# Depth in feet above ground.
‸ Mean Sea Level, rounded to the nearest 0.1 meter.
ADDRESSES
City of Enid
Maps are available for inspection at 401 Owen Garriott Road, Enid, OK 73702.
Cambria County, Pennsylvania (All Jurisdictions)
Docket No.: FEMA-B-1130
Chest Creek | Approximately 0.38 mile downstream of the railroad | +1723 | Township of Chest, Township of Elder.
| Approximately 1,240 feet upstream of Ridge Avenue | +1733
Clapboard Run | Approximately 670 feet upstream of Martin Road | +1923 | Township of Richland.
| Approximately 710 feet upstream of Martin Road | +1923
Clearfield Creek | Approximately 130 feet upstream of Liberty Street | +1623 | Township of Allegheny, Township of Gallitzin.
| Approximately 375 feet upstream of the confluence with Clearfield Creek Tributary A | +1626
Conemaugh River | Approximately 510 feet downstream of the confluence with Laurel Run No. 4 | +1154 | Township of Lower Yoder.
| Approximately 395 feet downstream of the confluence with Laurel Run No. 4 | +1154
Fox Run | Approximately 1,560 feet upstream of 8th Street | +1503 | Township of Susquehanna.
| Approximately 1,790 feet upstream of 8th Street | +1505
Laurel Run Tributary A | Approximately 120 feet downstream of the confluence with Laurel Run No. 2 | +1607 | Township of Croyle.
| Approximately 100 feet downstream of the confluence with Laurel Run No. 2 | +1608
Little Conemaugh River | Approximately 790 feet downstream of the confluence with South Branch Little Conemaugh River | +1469 | Township of Conemaugh, Township of East Taylor.
| Approximately 765 feet downstream of the confluence with South Branch Little Conemaugh River | +1469
Little Conemaugh River | Approximately 295 feet upstream of the railroad | +1536 | Township of Croyle.
| Approximately 520 feet upstream of the railroad | +1537
Little Conemaugh River | Approximately 0.49 mile upstream of the railroad | +1560 | Township of Summerhill.
| Approximately 0.51 mile upstream of the railroad | +1560
Little Conemaugh River | Approximately 715 feet upstream of the railroad | +1761 | Township of Portage.
| Approximately 1,475 feet upstream of the railroad | +1767
Little Conemaugh River | Approximately 1,555 feet downstream of the confluence with Bear Rock Run | +1861 | Township of Washington.
| Approximately 1,480 feet downstream of the confluence with Bear Rock Run | +1862
Little Paint Creek | Approximately 0.77 mile upstream of Bridge Street | +1734 | Township of Richland.
| Approximately 0.79 mile upstream of Bridge Street | +1735
North Branch Little Conemaugh River | Approximately 815 feet downstream of Evergreen Road | +1555 | Township of Summerhill.
| Approximately 105 feet downstream of Evergreen Road | +1556
Paint Creek | Approximately 0.47 mile downstream of Scalp Avenue | +1548 | Township of Richland.
| Approximately 0.44 mile downstream of Scalp Avenue | +1552
Sams Run | Approximately 260 feet upstream of Belmont Street | +1808 | Township of Richland.
| Approximately 375 feet upstream of Belmont Street | +1810
Solomon Run | Approximately 1,730 feet upstream of Widman Street | +1387 | Township of Stonycreek.
| Approximately 1,750 feet upstream of Widman Street | +1390
South Branch Blacklick Creek | Approximately 0.56 mile downstream of Chestnut Street | +1700 | Township of Blacklick, Township of Jackson.
| Approximately 0.54 mile downstream of Chestnut Street | +1700
South Fork Little Conemaugh River | Approximately 0.76 mile downstream of Cedar Street | +1849 | Township of Summerhill.
| Approximately 0.62 mile downstream of Cedar Street | +1862
St. Clair Run | Approximately 1,200 feet downstream of Tremont Road | +1229 | Township of Lower Yoder.
| Approximately 35 feet downstream of Tremont Road | +1260
West Branch Susquehanna River | Approximately 0.53 mile downstream of Redbud Street | +1437 | Township of Susquehanna.
| Approximately 0.51 mile downstream of Redbud Street | +1437
West Branch Susquehanna River | Approximately 1,500 feet upstream of the confluence with Fox Run | +1480 | Township of Barr.
| Approximately 1,550 feet upstream of the confluence with Fox Run | +1480
West Branch Susquehanna River | Approximately 285 feet upstream of the railroad | +1538 | Township of Barr.
| Approximately 910 feet upstream of the railroad | +1549
* National Geodetic Vertical Datum.
+ North American Vertical Datum.
# Depth in feet above ground.
‸ Mean Sea Level, rounded to the nearest 0.1 meter.
ADDRESSES
Township of Allegheny
Maps are available for inspection at the Allegheny Township Building, 107 Storm Road, Loretto, PA 15940.
Township of Barr
Maps are available for inspection at the Barr Township Building, 389 Moss Creek Road, Northern Cambria, PA 15714.
Township of Blacklick
Maps are available for inspection at the Blacklick Township Building, 138 Duman Road, Belsano, PA 15922.
Township of Chest
Maps are available for inspection at the Chest Township Building, 2658 Saint Lawrence Road, Flinton, PA 16640.
Township of Conemaugh
Maps are available for inspection at the Conemaugh Township Municipal Building, 104 Janie Street, Johnstown, PA 15902.
Township of Croyle
Maps are available for inspection at the Croyle Township Building, 1654 Railroad Street, Summerhill, PA 15958.
Township of East Taylor
Maps are available for inspection at the East Taylor Township Building, 1552 William Penn Avenue, Conemaugh, PA 15909.
Township of Elder
Maps are available for inspection at the Elder Township Building, 302 Scout Road, Hastings, PA 16646.
Township of Gallitzin
Maps are available for inspection at the Township Building, 245 Amsbry Street, Gallitzin, PA 16641.
Township of Jackson
Maps are available for inspection at the Jackson Township Building, 513 Pike Road, Johnstown, PA 15909.
Township of Lower Yoder
Maps are available for inspection at the Lower Yoder Township Building, 128 J Street, Johnstown, PA 15906.
Township of Portage
Maps are available for inspection at the Township Building, 416 Miller Shaft Road, Portage, PA 15946.
Township of Richland
Maps are available for inspection at the Richland Township Building, 322 Schoolhouse Road, Johnstown, PA 15904.
Township of Stonycreek
Maps are available for inspection at the Stonycreek Township Building, 1610 Bedford Street, Suite 3, Johnstown, PA 15902.
Township of Summerhill
Maps are available for inspection at the Summerhill Township Building, 114 Irvan Street, Beaverdale, PA 15958.
Township of Susquehanna
Maps are available for inspection at the Susquehanna Township Building, 508 Hillcrest Street, Northern Cambria, PA 15714.
Township of Washington
Maps are available for inspection at the Washington Township Building, 93 Jones Street, Lilly, PA 15938.
Aiken County, South Carolina, and Incorporated Areas
Docket No.: FEMA-B-1178
Abrams Branch | At the Dean Creek confluence | +255 | Unincorporated Areas of Aiken County.
| Approximately 0.7 mile upstream of the Dean Creek confluence | +263
Beaverdam Branch | At the South Fork Edisto River confluence | +297 | Unincorporated Areas of Aiken County.
| Approximately 1.3 miles upstream of the South Fork Edisto River confluence | +317
Beaverdam Creek | At the Shaws Creek confluence | +429 | Unincorporated Areas of Aiken County.
| Approximately 1,210 feet upstream of the Shaws Creek confluence | +435
Boggy Gut | At the Upper Three Runs Creek confluence | +186 | Unincorporated Areas of Aiken County.
| Approximately 1.5 miles upstream of Boggy Gut Road | +218
Bradley Mill Branch | At the Shaws Creek confluence | +327 | Unincorporated Areas of Aiken County.
| Approximately 0.8 mile upstream of Bradley Mill Road | +392
Bridge Creek North | At the South Fork Edisto River confluence | +319 | Unincorporated Areas of Aiken County.
| Approximately 0.56 mile upstream of Columbian Highway | +353
Brogdon Branch | At the Shaws Creek confluence | +351 | Unincorporated Areas of Aiken County.
| Approximately 1,550 feet upstream of the Shaws Creek confluence | +381
Bulls Branch | At the South Fork Edisto River confluence | +374 | Unincorporated Areas of Aiken County.
| Approximately 0.4 mile upstream of the South Fork Edisto River confluence | +379
Burcalo Creek | At the South Fork Edisto River confluence | +252 | Unincorporated Areas of Aiken County.
| Approximately 1.0 mile upstream of the South Fork Edisto River confluence | +264
Cedar Creek | At the South Fork Edisto River confluence | +263 | Unincorporated Areas of Aiken County.
| Approximately 1.1 miles upstream of Upper Pond Road | +296
Cedar Creek West | At the Upper Three Runs Creek confluence | +202 | City of New Ellenton, Unincorporated Areas of Aiken County.
| Approximately 0.7 mile upstream of Oak Meadow Lane | +408
Cedar Creek West Tributary 1 | At the Cedar Creek West confluence | +229 | Unincorporated Areas of Aiken County.
| Approximately 0.5 mile upstream of the Cedar Creek West confluence | +261
Cedar Creek West Tributary 2 | At the Cedar Creek West confluence | +234 | City of New Ellenton, Unincorporated Areas of Aiken County.
| Approximately 670 feet upstream of Paddock Club Parkway | +311
Cedar Creek West Tributary 3 | At the Cedar Creek West confluence | +243 | City of New Ellenton, Unincorporated Areas of Aiken County.
| Approximately 0.5 mile upstream of Gamboa Place | +349
Cedar Creek West Tributary 3.2 | At the Cedar Creek West Tributary 3 confluence | +288 | City of New Ellenton, Unincorporated Areas of Aiken County.
| Approximately 0.38 mile upstream of Club Drive | +330
Cedar Creek West Tributary 4 | At the Cedar Creek West confluence | +256 | Unincorporated Areas of Aiken County.
| Approximately 950 feet upstream of Belle Mead Road | +292
Cedar Creek West Tributary 5 | At the Cedar Creek West confluence | +266 | Unincorporated Areas of Aiken County.
| Approximately 1,540 feet upstream of the Cedar Creek West confluence | +308
Cedar Creek West Tributary 6 | At the Cedar Creek West confluence | +273 | Unincorporated Areas of Aiken County.
| Approximately 0.4 mile upstream of Talatha Church Road | +309
Cedar Creek West Tributary 7 | At the Cedar Creek West confluence | +314 | Unincorporated Areas of Aiken County.
| Approximately 350 feet upstream of Pintail Drive | +352
Chavous Creek | At the Shaws Creek confluence | +277 | Unincorporated Areas of Aiken County.
| Approximately 0.80 mile upstream of Mill Springs Drive | +312
Chinquapin Creek | At the North Fork Edisto River confluence | +336 | Unincorporated Areas of Aiken County.
| Approximately 600 feet upstream of Cocklebur Road | +520
Clearwater Branch | At the Shaws Creek confluence | +300 | Unincorporated Areas of Aiken County.
| Approximately 1,940 feet upstream of the Shaws Creek confluence | +305
Dairy Branch Tributary 1 | At the Dairy Branch confluence | +352 | Unincorporated Areas of Aiken County.
| Approximately 1,240 feet upstream of the Dairy Branch confluence | +364
Dean Creek | Approximately 1.4 miles downstream of No Bridge Road | +233 | Unincorporated Areas of Aiken County.
| Approximately 0.9 mile upstream of Wagener Trail Road | +335
Dry Branch | At the Hollow Creek West confluence | +217 | Unincorporated Areas of Aiken County.
| Approximately 1,200 feet upstream of Dry Branch Road | +318
Dry Branch Tributary 1 | At the Dry Branch confluence | +251 | Unincorporated Areas of Aiken County.
| Approximately 400 feet upstream of Gray Mare Hollow Road | +272
Dry Branch Tributary 2 | At the Dry Branch confluence | +286 | Unincorporated Areas of Aiken County.
| Approximately 1,870 feet upstream of the Dry Branch confluence | +307
Dry Branch Tributary 3 | At the Dry Branch confluence | +307 | Unincorporated Areas of Aiken County.
| Approximately 1,100 feet upstream of Ann Drive | +342
Franklin Branch | At the Little Horse Creek confluence | +200 | Unincorporated Areas of Aiken County.
| Approximately 1.7 miles upstream of the Little Horse Creek confluence | +236
Gopher Branch | At the Horse Creek confluence | +356 | Unincorporated Areas of Aiken County.
| Approximately 680 feet upstream of the Horse Creek confluence | +361
Gully Creek | At the McTier Creek confluence | +338 | Unincorporated Areas of Aiken County.
| Approximately 1,320 feet upstream of Uncle Duck Road | +410
Hall Branch | At the Shaws Creek confluence | +426 | Unincorporated Areas of Aiken County.
| Approximately 950 feet upstream of the Shaws Creek confluence | +426
Hightower Creek | Approximately 170 feet upstream of the Little Horse Creek confluence | +222 | Unincorporated Areas of Aiken County.
| Approximately 1,480 feet upstream of the Little Horse Creek confluence | +234
Hollow Creek East | At the North Fork Edisto River confluence | +241 | Unincorporated Areas of Aiken County.
| Approximately 0.4 mile upstream of Brim Road | +284
Hollow Creek West | At the upstream side of Woodfield Road | +202 | City of Aiken, Unincorporated Areas of Aiken County.
| Approximately 1,000 feet upstream of Woodside Plantation Drive | +364
Hollow Creek West Tributary 10 | At the Hollow Creek West confluence | +269 | Unincorporated Areas of Aiken County.
| Approximately 0.5 mile upstream of Anderson Pond Road | +321
Hollow Creek West Tributary 11 | At the Hollow Creek West confluence | +274 | City of Aiken, Unincorporated Areas of Aiken County.
| Approximately 200 feet upstream of Private Dam | +360
Hollow Creek West Tributary 12 | At the Hollow Creek West confluence | +270 | Unincorporated Areas of Aiken County.
| Approximately 600 feet upstream of Private Dam | +325
Hollow Creek West Tributary 12A | At the Hollow Creek West confluence | +298 | City of Aiken.
| Approximately 0.5 mile upstream of Private Dam | +329
Hollow Creek West Tributary 13 | At the Hollow Creek West confluence | +272 | Unincorporated Areas of Aiken County.
| Approximately 1,850 feet upstream of the Hollow Creek confluence | +309
Hollow Creek West Tributary 15 | At the Hollow Creek West confluence | +282 | City of Aiken, Unincorporated Areas of Aiken County.
| Approximately 1,850 feet upstream of Private Dam | +334
Hollow Creek West Tributary 3 | Approximately 580 feet upstream of the Hollow Creek West confluence | +174 | Unincorporated Areas of Aiken County.
| Approximately 270 feet upstream of Chavous Road | +204
Hollow Creek West Tributary 4 | Approximately 250 feet upstream of the Hollow Creek West confluence | +192 | Unincorporated Areas of Aiken County.
| Approximately 870 feet upstream of Woodfield Road | +203
Hollow Creek West Tributary 6 | At the Hollow Creek West confluence | +230 | Unincorporated Areas of Aiken County.
| Approximately 975 feet upstream of the Hollow Creek West confluence | +253
Hollow Creek West Tributary 7 | At the Hollow Creek West confluence | +240 | Unincorporated Areas of Aiken County.
| Approximately 1,260 feet upstream of the Hollow Creek West confluence | +274
Hollow Creek West Tributary 8 | At the Hollow Creek West confluence | +250 | Unincorporated Areas of Aiken County.
| Approximately 1,845 feet upstream of the Hollow Creek West confluence | +265
Hollow Creek West Tributary 9 | At the Hollow Creek West confluence | +253 | Unincorporated Areas of Aiken County.
| Approximately 1,410 feet upstream of the Hollow Creek West confluence | +293
Horse Branch | At the Horse Creek confluence | +313 | Unincorporated Areas of Aiken County.
| Approximately 1,330 feet upstream of the Horse Creek confluence | +314
Horse Creek | At the upstream side of Augusta Road | +145 | City of North Augusta, Town of Burnettown, Unincorporated Areas of Aiken County.
| Approximately 2.56 miles upstream of Old Friar Road | +440
Horse Creek Tributary 3 | At the Horse Creek confluence | +182 | Town of Burnettown.
| Approximately 0.5 mile upstream of the Horse Creek confluence | +201
Horse Creek Tributary 4 | At the Horse Creek confluence | +187 | Unincorporated Areas of Aiken County.
| Approximately 0.6 mile upstream of Jefferson Davis Highway | +252
Horse Creek Tributary 5 | At the Horse Creek confluence | +230 | Unincorporated Areas of Aiken County.
| Approximately 1,944 feet upstream of the Horse Creek confluence | +238
Horsepen Creek | At the Little Horse Creek confluence | +279 | Unincorporated Areas of Aiken County.
| Approximately 0.5 mile upstream of Whaley Pond Road | +307
Hunter Branch | At the South Fork Edisto River confluence | +235 | Unincorporated Areas of Aiken County.
| Approximately 0.9 mile upstream of the South Fork Edisto River confluence | +242
Johnson Fork | At the Upper Three Runs Creek confluence | +180 | Unincorporated Areas of Aiken County.
| Approximately 0.6 mile upstream of the Johnson Fork Tributary 1 confluence | +313
Johnson Fork Tributary 1 | At the Johnson Fork confluence | +283 | City of New Ellenton, Unincorporated Areas of Aiken County.
| Approximately 1,600 feet upstream of Forest Circle Road | +408
Johnson Fork Tributary 1.1 | At the Johnson Fork Tributary 1 confluence | +285 | City of New Ellenton, Unincorporated Areas of Aiken County.
| Approximately 0.8 mile upstream of the Johnson Fork Tributary 1 confluence | +323
Jordan Creek | At the Dean Creek confluence | +261 | Unincorporated Areas of Aiken County.
| Approximately 0.5 mile upstream of the Dean Creek confluence | +267
Joyce Branch | At the Shaws Creek confluence | +302 | Unincorporated Areas of Aiken County.
| Approximately 0.5 mile upstream of the Shaws Creek confluence | +307
Little Horse Creek Tributary 1 | Approximately 330 feet upstream of the Little Horse Creek confluence | +153 | Town of Burnettown.
| Approximately 1,800 feet upstream of the Little Horse Creek confluence | +158
Little Horse Creek Tributary 4 | Approximately 350 feet upstream of the Little Horse Creek confluence | +274 | Unincorporated Areas of Aiken County.
| Approximately 1,420 feet upstream of the Little Horse Creek confluence | +302
Long Branch North | At the Shaws Creek confluence | +344 | Unincorporated Areas of Aiken County.
| Approximately 0.5 mile upstream of the Shaws Creek confluence | +358
Lotts Creek | At the South Fork Edisto River confluence | +289 | Unincorporated Areas of Aiken County.
| Approximately 0.5 mile upstream of Whispering Pine Road | +424
Lotts Creek Tributary 1 | At the Lotts Creek confluence | +415 | Unincorporated Areas of Aiken County.
| Approximately 1,110 feet upstream of the Lotts Creek confluence | +418
Marrow Bone Swamp Creek | At the North Fork Edisto River confluence | +296 | Unincorporated Areas of Aiken County.
| Approximately 0.4 mile upstream of the North Fork Edisto River confluence | +300
McTier Creek | At the South Fork Edisto River confluence | +310 | Unincorporated Areas of Aiken County.
| Approximately 150 feet upstream of Old Shoals Road | +418
Mill Creek | At the Tinker Creek confluence | +166 | Unincorporated Areas of Aiken County.
| Approximately 1,880 feet upstream of the Tinker Creek confluence | +170
Mims Branch | Approximately 400 feet upstream of the Little Horse Creek confluence | +162 | City of North Augusta, Town of Burnettown, Unincorporated Areas of Aiken County.
| Approximately 0.66 mile upstream of the Little Horse Creek confluence | +197
Muddy Branch | At the South Fork Edisto River confluence | +296 | Unincorporated Areas of Aiken County.
| Approximately 0.4 mile upstream of the South Fork Edisto River confluence | +303
North Fork Edisto River | Approximately 1.0 mile downstream of the Hollow Creek East confluence | +235 | Unincorporated Areas of Aiken County.
| Approximately 400 feet upstream of U.S. Route 10 | +336
Pitman Branch | At the Rocky Springs Creek confluence | +341 | Unincorporated Areas of Aiken County.
| Approximately 1,020 feet upstream of the Rocky Springs Creek confluence | +343
Pond Branch | At the South Fork Edisto River confluence | +228 | Unincorporated Areas of Aiken County.
| Approximately 0.4 mile upstream of Oak Ridge Club Road | +235
Redds Branch | At the Shaws Creek confluence | +300 | Unincorporated Areas of Aiken County.
| Approximately 1,820 feet upstream of the Shaws Creek confluence | +307
Reedy Branch | At the Tinker Creek confluence | +172 | Unincorporated Areas of Aiken County.
| Approximately 0.4 mile upstream of the Tinker Creek confluence | +177
Rocky Springs Creek | At the South Fork Edisto River confluence | +289 | Unincorporated Areas of Aiken County.
| Approximately 1,400 feet upstream of Migrant Camp Road | +373
Rocky Springs Creek Tributary 5 | At the Rocky Springs Creek confluence | +361 | Unincorporated Areas of Aiken County.
| Approximately 0.4 mile upstream of the Rocky Springs Creek confluence | +363
Sand River | At the Horse Creek confluence | +190 | City of Aiken, Unincorporated Areas of Aiken County.
| At the downstream side of South Boundary Avenue Southwest | +433
Sand River Tributary 2 Tributary 1 | At the Sand River Tributary 2 confluence | +288 | City of Aiken, Unincorporated Areas of Aiken County.
| Approximately 1.1 miles upstream of the Sand River Tributary 2 confluence | +436
Shaws Creek | At the South Fork Edisto River confluence | +261 | Unincorporated Areas of Aiken County.
| Approximately 200 feet upstream of Luke Bridge Road | +433
Shaws Creek Tributary 3 | At the Shaws Creek confluence | +287 | Unincorporated Areas of Aiken County.
| Approximately 0.5 mile upstream of the Shaws Creek confluence | +310
South Fork Edisto River | Approximately 2.1 miles downstream of the Pond Branch confluence | +222 | Unincorporated Areas of Aiken County.
| Approximately 0.8 mile upstream of Mount Calvary Road | +405
Tinker Creek | At the Upper Three Runs Creek confluence | +151 | Unincorporated Areas of Aiken County.
| Approximately 5.5 miles upstream of the Reedy Branch confluence | +211
Town Creek | Approximately 1.1 miles upstream of Richardson's Lake Road | +391 | City of Aiken, Unincorporated Areas of Aiken County.
| Approximately 1.3 miles upstream of Richardson's Lake Road | +414
Town Creek Tributary 1 | Approximately 300 feet upstream of the Town Creek confluence | +178 | Unincorporated Areas of Aiken County.
| Approximately 0.55 mile upstream of the Town Creek confluence | +216
Town Creek Tributary 11 | Approximately 320 feet upstream of the Town Creek confluence | +253 | Unincorporated Areas of Aiken County.
| Approximately 950 feet upstream of the Town Creek confluence | +268
Town Creek Tributary 12 | Approximately 890 feet upstream of the Town Creek confluence | +257 | Unincorporated Areas of Aiken County.
| Approximately 0.4 mile upstream of the Town Creek confluence | +270
Town Creek Tributary 14 | Approximately 700 feet upstream of the Town Creek confluence | +280 | Unincorporated Areas of Aiken County.
| Approximately 1,580 feet upstream of the Town Creek confluence | +286
Town Creek Tributary 16 | Approximately 120 feet downstream of Blue Roan Court | +287 | Unincorporated Areas of Aiken County.
| Approximately 0.5 mile upstream of Blue Roan Court | +367
Town Creek Tributary 18 | At the upstream side of Chestnut Brown Court | +288 | Unincorporated Areas of Aiken County.
| Approximately 0.53 mile upstream of Blue Roan Court | +314
Town Creek Tributary 2.1 | Approximately 100 feet upstream of the Town Creek Tributary 2 confluence | +239 | Unincorporated Areas of Aiken County.
| Approximately 1,630 feet upstream of the Town Creek Tributary 2 confluence | +298
Town Creek Tributary 3.1 | Approximately 160 feet upstream of the Town Creek Tributary 3 confluence | +260 | Unincorporated Areas of Aiken County.
| Approximately 1,270 feet upstream of the Town Creek Tributary 3 confluence | +282
Town Creek Tributary 3.3 | Approximately 200 feet upstream of the Town Creek Tributary 3 confluence | +290 | Unincorporated Areas of Aiken County.
| Approximately 1,540 feet upstream of the Town Creek Tributary 3 confluence | +325
Town Creek Tributary 3.4 | Approximately 540 feet upstream of the Town Creek Tributary 3 confluence | +325 | Unincorporated Areas of Aiken County.
| Approximately 0.6 mile upstream of the Town Creek Tributary 3 confluence | +376
Town Creek Tributary 5.1 | Approximately 200 feet upstream of the Town Creek confluence | +237 | Unincorporated Areas of Aiken County.
| Approximately 550 feet upstream of Boyd Pond Road | +252
Unknown Tributary to Town Creek Tributary 8 | Approximately 400 feet upstream of the Town Creek Tributary 8 confluence | +348 | Unincorporated Areas of Aiken County.
| Approximately 1,820 feet upstream of the Town Creek Tributary 8 confluence | +361
Unnamed Tributary 1 to Cedar Creek West | At the Cedar Creek West confluence | +249 | Unincorporated Areas of Aiken County.
| Approximately 0.5 mile upstream of Cedar Meadows Drive | +282
Unnamed Tributary 1 to Hollow Creek West | At the Hollow Creek West confluence | +160 | Unincorporated Areas of Aiken County.
| Approximately 270 feet upstream of Chavous Road | +208
Unnamed Tributary 1 to Little Horse Creek | Approximately 400 feet upstream of the Little Horse Creek confluence | +274 | Unincorporated Areas of Aiken County.
| Approximately 1,900 feet upstream of the Little Horse Creek confluence | +310
Unnamed Tributary 1 to Town Creek | Approximately 500 feet upstream of the Town Creek confluence | +179 | Unincorporated Areas of Aiken County.
| Approximately 1,620 feet upstream of the Town Creek confluence | +194
Unnamed Tributary 10 to Town Creek | At the Town Creek confluence | +360 | Unincorporated Areas of Aiken County.
| Approximately 1,300 feet upstream of the Town Creek confluence | +396
Unnamed Tributary 2 to Cedar Creek West | At the Cedar Creek West confluence | +264 | Unincorporated Areas of Aiken County.
| Approximately 1,250 feet upstream of Banks Mill Road Southeast | +316
Unnamed Tributary 2 to Hollow Creek West | At the Hollow Creek West confluence | +162 | Unincorporated Areas of Aiken County.
| Approximately 0.4 mile upstream of the Hollow Creek West confluence | +195
Unnamed Tributary 2 to Town Creek | Approximately 250 feet upstream of the Town Creek confluence | +182 | Unincorporated Areas of Aiken County.
| Approximately 0.4 mile upstream of the Town Creek confluence | +246
Unnamed Tributary 3 to Town Creek | Approximately 400 feet upstream of the Town Creek confluence | +183 | Unincorporated Areas of Aiken County.
| Approximately 1,615 feet upstream of the Town Creek confluence | +244
Unnamed Tributary 4 to Town Creek | Approximately 310 feet upstream of the Town Creek confluence | +236 | Unincorporated Areas of Aiken County.
| Approximately 0.4 mile upstream of the Town Creek confluence | +297
Unnamed Tributary 5 to Town Creek | Approximately 350 feet upstream of the Town Creek confluence | +251 | Unincorporated Areas of Aiken County.
| Approximately 1,500 feet upstream of the Town Creek confluence | +284
Unnamed Tributary 6 to Town Creek | At the upstream side of Farmstead Drive | +301 | Unincorporated Areas of Aiken County.
| Approximately 900 feet upstream of Farmstead Drive | +332
Unnamed Tributary 7 to Town Creek | Approximately 100 feet upstream of Farmstead Drive | +292 | Unincorporated Areas of Aiken County.
| Approximately 900 feet upstream of Farmstead Drive | +320
Unnamed Tributary 8 to Town Creek | Approximately 560 feet upstream of the Town Creek confluence | +295 | Unincorporated Areas of Aiken County.
| Approximately 1,150 feet upstream of the Town Creek confluence | +325
Unnamed Tributary 9 to Town Creek | Approximately 560 feet upstream of the Town Creek confluence | +301 | Unincorporated Areas of Aiken County.
| Approximately 1,840 feet upstream of the Town Creek confluence | +342
Upper Horse Creek | Approximately 360 feet upstream of the Little Horse Creek confluence | +325 | Unincorporated Areas of Aiken County.
| Approximately 1,525 feet upstream of the Little Horse Creek confluence | +344
Upper Three Runs Creek | Approximately 1.4 miles downstream of the Upper Three Runs Creek Tributary 9 confluence | +144 | Unincorporated Areas of Aiken County.
| Approximately 3.0 miles upstream of the Upper Three Runs Creek Tributary 8 confluence | +252
Upper Three Runs Creek Tributary 8 | At the Upper Three Runs Creek confluence | +219 | Unincorporated Areas of Aiken County.
| Approximately 1,650 feet upstream of the Upper Three Runs Creek confluence | +233
Upper Three Runs Creek Tributary 9 | At the Upper Three Runs Creek confluence | +151 | Unincorporated Areas of Aiken County.
| Approximately 0.5 mile upstream of the Upper Three Runs Creek confluence | +159
Wise Hollow | At the Cedar Creek West confluence | +333 | Unincorporated Areas of Aiken County.
| Approximately 1,100 feet upstream of Private Drive | +450
Wise Hollow Tributary 1 | At the Wise Hollow confluence | +393 | City of Aiken, Unincorporated Areas of Aiken County.
| Approximately 200 feet upstream of Pine Log Road | +474
Womrath Creek | Approximately 950 feet downstream of Hamburg Road | +135 | City of North Augusta, Unincorporated Areas of Aiken County.
| Approximately 100 feet upstream of Old Aiken Road | +208
* National Geodetic Vertical Datum.
+ North American Vertical Datum.
# Depth in feet above ground.
‸ Mean Sea Level, rounded to the nearest 0.1 meter.
ADDRESSES
City of Aiken
Maps are available for inspection at 214 Park Avenue Southwest, Room 101, Aiken, SC 29801.
City of New Ellenton
Maps are available for inspection at 200 Main Street, New Ellenton, SC 29809.
City of North Augusta
Maps are available for inspection at 100 Georgia Avenue, North Augusta, SC 29841.
Town of Burnettown
Maps are available for inspection at 3144 Augusta Road, Warrenville, SC 29851.
Unincorporated Areas of Aiken County
Maps are available for inspection at 1680 Richland Avenue, Suite 130, Aiken, SC 29801.
Caldwell County, Texas, and Incorporated Areas
Docket Nos.: FEMA-B-1069 and FEMA-B-1210
Mebane Creek | Approximately 0.38 mile downstream of FM 20 (State Park Road) | +513 | City of Lockhart, Unincorporated Areas of Caldwell County.
| Approximately 488 feet downstream of FM 20 (State Park Road) | +521
Plum Creek | Just downstream of the Hays County boundary | +538 | City of Uhland.
| Approximately 1,465 feet downstream of the Hays County boundary | +540
Town Branch | Approximately 981 feet downstream of Union Pacific Railroad | +441 | City of Lockhart, Unincorporated of Caldwell County Areas.
| At the upstream side of Union Pacific Railroad | +448
* National Geodetic Vertical Datum.
+ North American Vertical Datum.
# Depth in feet above ground.
‸ Mean Sea Level, rounded to the nearest 0.1 meter.
ADDRESSES
City of Lockhart
Maps are available for inspection at 308 West San Antonio Street, Lockhart, TX 78644.
City of Uhland
Maps are available for inspection at 17 Cotton Gin Road, Uhland, TX 78640.
Unincorporated Areas of Caldwell County
Maps are available for inspection at 110 South Main Street, Lockhart, TX 78644.
Tom Green County, Texas, and Incorporated Areas
Docket No.: FEMA-B-1043
Flooding Effects of Red Arroyo | Just upstream of Melrose Avenue | +1900 | City of San Angelo.
| Just downstream of Burlington Road | +1922
* National Geodetic Vertical Datum.
+ North American Vertical Datum.
# Depth in feet above ground.
‸ Mean Sea Level, rounded to the nearest 0.1 meter.
ADDRESSES
City of San Angelo
Maps are available for inspection at City Hall, 72 College Street, San Angelo, TX 76903.
Marion County, West Virginia, and Incorporated Areas
Docket No.: FEMA-B-1190
Bingamon Creek | At the West Fork River confluence | +902 | Unincorporated Areas of Marion County.
| At the Harrison County boundary | +902
Booths Creek | Approximately 40 feet upstream of the West Fork River confluence | +886 | Town of Monongah, Unincorporated Areas of Marion County.
| At the Harrison/Taylor County boundary | +959
Tevebaugh Creek (backwater effects from West Fork River) | From approximately 400 feet upstream of the West Fork River confluence to approximately 1,300 feet upstream of the West Fork River confluence | +897 | Town of Worthington.
* National Geodetic Vertical Datum.
+ North American Vertical Datum.
# Depth in feet above ground.
‸ Mean Sea Level, rounded to the nearest 0.1 meter.
ADDRESSES
Town of Monongah
Maps are available for inspection at the Town Hall, 430 Bridge Street, Monongah, WV 26554.
Town of Worthington
Maps are available for inspection at the Town Hall, 247 Main Street, Worthington, WV 26591.
Unincorporated Areas of Marion County
Maps are available for inspection at the Marion County City Building, 200 Jackson Street, Fairmont, WV 26554.
Kenosha County, Wisconsin, and Incorporated Areas
Docket No.: FEMA-B-7756
Airport Creek | At the confluence with Pike Creek | +677 | City of Kenosha, Unincorporated Areas of Kenosha County.
| Approximately 4,910 feet upstream of its confluence | +688
Brighton Creek | At the confluence with the Des Plaines River | +695 | Unincorporated Areas of Kenosha County, Village of Bristol.
| At the downstream side of State Highway 75 | +789
Center Creek | At the confluence with the Des Plaines River | +679 | Village of Bristol.
| At the downstream side of State Highway 50 | +705
Des Plaines River | From the Wisconsin-Illinois State Line | +676 | Unincorporated Areas of Kenosha County, Village of Bristol, Village of Pleasant Prairie.
| Approximately 1,190 feet from the Kenosha County-Racine County Line | +706
Dutch Gap Canal | From the Wisconsin-Illinois State Line | +575 | Village of Bristol.
| At the downstream side of County Highway C | +579
Jerome Creek | Approximately 1,575 feet downstream of 88th Avenue | +676 | Village of Pleasant Prairie.
| Approximately 750 feet upstream of Johnson Road | +715
Kenosha Branch | At the confluence with the Pike River | +593 | City of Kenosha, Unincorporated Areas of Kenosha County.
| Approximately 700 feet upstream of 22nd Avenue | +619
Kilbourn Road Ditch | At the confluence with the Des Plaines River | +679 | Unincorporated Areas of Kenosha County, Village of Pleasant Prairie.
| Kenosha County-Racine County Line | +726
Mud Lake Outlet | At the confluence with Dutch Gap Canal | +758 | Village of Bristol.
| Approximately 2,500 feet upstream of 187th Street | +765
Nelson Creek | At the confluence with Sorenson Creek | +600 | Unincorporated Areas of Kenosha County.
| Kenosha County-Racine County Line | +616
Pike Creek | Just upstream of State Highway 31 | +645 | City of Kenosha, Unincorporated Areas of Kenosha County.
| Just upstream of State Highway 50 | +684
Pike River | At the confluence with Lake Michigan | +584 | City of Kenosha, Unincorporated Areas of Kenosha County.
| Just upstream of State Highway 31 | +653
Pleasant Prairie Tributary | Approximately 1,900 feet downstream of County Highway C | +677 | Village of Pleasant Prairie.
| Approximately 5,500 feet upstream of its confluence with the Des Plaines River | +685
Salem Branch | Approximately 150 feet upstream of its confluence with Brighton Creek | +721 | Unincorporated Areas of Kenosha County, Village of Paddock Lake, Village of Bristol.
| Approximately 2.37 miles upstream of its confluence with Brighton Creek | +756
Somers Branch | At the confluence with Pike Creek | +659 | Unincorporated Areas of Kenosha County.
| Approximately 110 feet downstream of 12th Street | +704
Sorenson Creek | At the confluence with the Pike River | +600 | Unincorporated Areas of Kenosha County.
| At the Kenosha County-Racine County Line | +611
Union Grove Industrial Tributary | At the confluence with the Des Plaines River | +706 | Unincorporated Areas of Kenosha County.
| Kenosha County-Racine County Line | +739
Unnamed Tributary No. 1E to Des Plaines River | At the confluence with Unnamed Tributary No. 1 to Des Plaines River | +676 | Village of Bristol, Village of Pleasant Prairie.
| Approximately 1,700 feet upstream of Johnson Road | +726
Unnamed Tributary No. 1 to Center Creek | At the confluence with Center Creek | +684 | Village of Bristol.
| Approximately 5,702 feet upstream of State Highway 50 | +756
Unnamed Tributary No. 1 to Des Plaines River | From the Wisconsin-Illinois State Line | +675 | Village of Pleasant Prairie.
| Approximately 5,400 feet upstream of Springbrook Road | +713
Unnamed Tributary No. 1 to Hooker Lake | At the confluence with Hooker Lake | +757 | Unincorporated Areas of Kenosha County.
| Approximately 5,637 feet upstream of 89th Street | +813
Unnamed Tributary No. 1 to Kilbourn Road Ditch | At the confluence with Kilbourn Road Ditch | +679 | Village of Pleasant Prairie.
| Approximately 3,800 feet upstream of its confluence with Kilbourn Road Ditch | +686
Unnamed Tributary No. 1 to Salem Branch Brighton Creek | At the confluence with Salem Branch | +729 | Village of Bristol.
| At the downstream side of 85th Street | +761
Unnamed Tributary No. 13 to Kilbourn Road Ditch | At the confluence with Kilbourn Road Ditch | +715 | Unincorporated Areas of Kenosha County.
| At the upstream side of Frontage Road | +736
Unnamed Tributary No. 15 to Kilbourn Road Ditch | At the confluence with Kilbourn Road Ditch | +723 | Unincorporated Areas of Kenosha County.
| Approximately 2,286 feet upstream of its confluence with Kilbourn Road Ditch | +726
Unnamed Tributary No. 1A to Des Plaines River | At the confluence with Unnamed Tributary No. 1 to Des Plaines River | +678 | Village of Pleasant Prairie.
| At the Wisconsin-Illinois State Line | +715
Unnamed Tributary No. 1B to Des Plaines River | At the confluence with Unnamed Tributary No. 1 to Des Plaines River | +683 | Village of Pleasant Prairie.
| Just downstream of its confluence with Unnamed Tributary No. 1C to Des Plaines River | +698
Unnamed Tributary No. 1C to Des Plaines River | At the confluence with Unnamed Tributary No. 1B to Des Plaines River | +698 | Village of Pleasant Prairie.
| Approximately 8,500 feet upstream of its confluence with Unnamed Tributary No. 1B | +736
Unnamed Tributary No. 1F to Des Plaines River | At the confluence with Unnamed Tributary No. 1E to Des Plaines River | +691 | Village of Bristol, Village of Pleasant Prairie.
| Approximately 1,560 feet upstream of its confluence with Unnamed Tributary No. 1E to Des Plaines River | +746
Unnamed Tributary No. 2 to Des Plaines River | At the confluence with Unnamed Tributary No. 1E to Des Plaines River | +676 | Village of Pleasant Prairie.
| Approximately 1,350 feet upstream of 120th Avenue | +748
Unnamed Tributary No. 2 to Jerome Creek | At the confluence with Jerome Creek | +680 | Village of Pleasant Prairie.
| At the divergence from Unnamed Tributary No. 3 to Jerome Creek | +681
Unnamed Tributary No. 2 to Salem Branch Brighton Creek and Paddock Lake | At the confluence with Salem Branch | +751 | Unincorporated Areas of Kenosha County, Village of Paddock Lake.
| Approximately 968 feet upstream of State Highway 50 | +794
Unnamed Tributary No. 3 to Dutch Gap Canal | At the confluence with Dutch Gap Canal | +759 | Village of Bristol.
| Approximately 4,965 feet upstream of U.S. Route 45 | +791
Unnamed Tributary No. 3 to Jerome Creek | At the confluence with Jerome Creek | +681 | City of Kenosha, Village of Pleasant Prairie.
| At the downstream side of 70th Avenue | +688
Unnamed Tributary No. 3 to Salem Brighton Creek and Montgomery Lake | At the confluence with Salem Branch | +756 | Unincorporated Areas of Kenosha County.
| Approximately 2,847 feet upstream of 84th Street | +801
Unnamed Tributary No. 4 to Dutch Gap Canal | At the confluence with Unnamed Tributary No. 3 to Dutch Gap Canal | +763 | Village of Bristol.
| Approximately 3,370 feet upstream of 107th Street | +772
Unnamed Tributary No. 4 to Jerome Creek | At the confluence with Jerome Creek | +681 | Village of Pleasant Prairie.
| Approximately 5,000 feet upstream of Johnson Road | +715
Unnamed Tributary No. 4 to Jerome Creek Overflow | At the confluence with Jerome Creek | +682 | Village of Pleasant Prairie.
| At the divergence from Unnamed Tributary No. 4 to Jerome Creek | +690
Unnamed Tributary No. 5 to Des Plaines River | Approximately 500 feet downstream of County Highway H | +677 | Village of Pleasant Prairie.
| Approximately 250 feet upstream of Johnson Road | +680
Unnamed Tributary No. 5 to Kilbourn Road Ditch | Approximately 670 feet upstream of 120th Avenue | +701 | City of Kenosha, Unincorporated Areas of Kenosha County.
| At the downstream side of 128th Avenue | +736
Unnamed Tributary No. 5B to Des Plaines River | At the confluence with Unnamed Tributary No. 5 to Des Plaines River | +679 | Village of Pleasant Prairie.
| Approximately 1,700 feet upstream of its confluence with Unnamed Tributary No. 5 to Des Plaines River | +685
Unnamed Tributary No. 6 to Brighton Creek and League Lake | At the confluence with Brighton Creek | +742 | Unincorporated Areas of Kenosha County, Village of Paddock Lake.
| Approximately 1,681 feet upstream of 60th Street | +789
Unnamed Tributary No. 7 to Des Plaines River | Approximately 815 feet downstream of 120th Avenue | +676 | Village of Bristol, Village of Pleasant Prairie.
| At the downstream side of 136th Avenue | +710
Unnamed Tributary No. 8 to Kilbourn Road Ditch | Approximately 670 feet upstream of the confluence with Kilbourn Road Ditch | +710 | Unincorporated Areas of Kenosha County.
| At the upstream side of Frontage Road | +724
Unnamed Tributary No. 8 to Kilbourn Road Ditch Overflow | Approximately 800 feet upstream of its confluence with Kilbourn Road Ditch | +708 | Unincorporated Areas of Kenosha County.
| Approximately 2,464 feet upstream of its confluence with Kilbourn Road Ditch | +716
* National Geodetic Vertical Datum.
+ North American Vertical Datum.
# Depth in feet above ground.
‸ Mean Sea Level, rounded to the nearest 0.1 meter.
ADDRESSES
City of Kenosha
Maps are available for inspection at City Hall, 625 52nd Street, Kenosha, WI 53140.
Unincorporated Areas of Kenosha County
Maps are available for inspection at the Kenosha County Courthouse, 912 56th Street, Kenosha, WI 53140.
Village of Bristol
Maps are available for inspection at the Village Hall, 19801 83rd Street, Bristol, WI 53104.
Village of Paddock Lake
Maps are available for inspection at the Paddock Lake Village Hall, 6969 236th Avenue, Salem, WI 53168.
Village of Pleasant Prairie | Maps are available for inspection at the Village Hall, 9915 39th Avenue, Pleasant Prairie, WI 53158.

(Catalog of Federal Domestic Assistance No. 97.022, “Flood Insurance.”)

Dated: April 18, 2012.
Sandra K. Knight,
Deputy Associate Administrator for Mitigation, Department of Homeland Security, Federal Emergency Management Agency.

[FR Doc. 2012-10997 Filed 5-7-12; 8:45 am]

BILLING CODE 9110-12-P